DEPARTMENT OF COMMERCE

International Trade Administration

C-580-851

Dynamic Random Access Memory Semiconductors from the Republic of Korea: Notice of Extension of Time Limit for Countervailing Duty Administrative Review

AGENCY: Import Administration, International Trade Administration, Department of Commerce.

EFFECTIVE DATE: November 16, 2005.

FOR FURTHER INFORMATION CONTACT: Cole Kyle or Marc Rivitz, Office of Antidumping/Countervailing Duty Operations, Office 1, Import Administration, U.S. Department of Commerce, Room 3069, 14th Street and Constitution Avenue, N.W., Washington, D.C. 20230; telephone: (202) 482-1503 or (202) 482-1382, respectively.

SUPPLEMENTARY INFORMATION:

Background

On September 15, 2005, the Department of Commerce (the Department) published the preliminary results of the countervailing duty order on dynamic random access memory semiconductors from the Republic of Korea (“Korea”) covering the period April 7, 2003, through December 31, 2003 (70 FR 54523). The final results are currently due no later than January 13, 2006.

Extension of Time Limits for Final Results

Under section 751(a)(3)(A) of the Tariff Act of 1930, as amended (the Act) the Department may extend the deadline for completion of an administrative review if it determines that it is not practicable to complete the final results of the review within the statutory time limit of 120 days after the publication of the preliminary results in the Federal Register. We are currently analyzing information submitted by interested parties in this review. This administrative review is extraordinarily complicated due to the unique nature of the countervailable subsidy practices being examined in this review. The Department finds that it needs additional time to consider the exceedingly complex issues raised in the case and rebuttal briefs regarding entrustment and direction. Moreover, record evidence relating to equityworthiness and creditworthiness is voluminous and time intensive to evaluate. Therefore, it is not practicable to complete this review within the time limit mandated by section 751(a)(3)(A) of the Act. Accordingly, the Department is extending the time limit for completion of these final results for 60 days (i.e., until March 14, 2006).

This extension is in accordance with section 751(a)(3)(A) of the Act.

Dated: November 8, 2005.
Stephen J. Claeys,
Deputy Assistant Secretary for Import Administration.

[FR Doc. E5-6329 Filed 11-15-05; 8:45 am]

BILLING CODE 3510-DS-S